DEPARTMENT OF ENERGY

Federal Energy Regulatory Commission

[Project No. 1394-080]

Southern California Edison; Notice of Request To Expedite Study Plan Determination Process Through Waiver of Pre-Filing Requirements

a. Type of Filing: Request to Expedite Study Plan Determination Process through Waiver of Pre-Filing Requirements.

b. Project No.: 1394-080.

c. Dated Filed: September 4, 2019.

d. Submitted By: Southern California Edison (SCE).

e. Name of Project: Bishop Creek Hydroelectric Project.

f. Location: On Bishop Creek in Inyo County, California. The project occupies approximately 734 acres of federal land administered by the U.S. Forest Service and approximately 48 acres of federal land administered by the U.S. Bureau of Land Management.

g. Applicant Contact: Matthew Woodhall, Project Lead, Southern California Edison Company, 1515 Walnut Grove Avenue, Rosemead, CA 91770.

h. FERC Contact: Kelly Wolcott at (202) 502-6480 or email at: kelly.wolcott@ferc.gov.

i. On September 4, 2019, SCE filed a request for the Commission to expedite the study plan determination process by waiving certain pre-filing study plan development requirements under Part 5 of the Commission's regulations for the existing Bishop Creek Hydroelectric Project. Specifically, SCE requests that the Commission waive the requirement for: A proposed study plan; ¹ study plan meetings; ² and comments on the proposed study plan.³ SCE states that the waiver would shorten the study plan determination process by four months, and that the expedited process and associated waiver would allow more time for SCE and the stakeholders to collaboratively assess project effects and develop proposed license conditions during the pre-filing period. SCE adds that they have met the intent of these regulations through early collaborative efforts with stakeholders in developing the technical study plans included in its Pre-Application Document filed May 1, 2019.⁴

¹ 18 CFR 5.11 (a)-(d) (2019).

² 18 CFR 5.11 (e) (2019).

³ 18 CFR 5.12 (2019).

⁴ SCE filed updated technical study plans on August 29, 2019, that address comments received from stakeholders and FERC staff during the scoping process.

With this notice we are soliciting comments on SCE's request to expedite the study plan determination process through waiver of certain pre-filing requirements. All comments should be sent to the address in paragraph k below.

j. The waiver request and associated filings are available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph g.

Register online at http://www.ferc.gov/docs-filing/esubscription.asp to be notified via email of new filing and issuances related to this or other pending projects. For assistance, contact FERC Online Support.

k. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE, Washington, DC 20426. The first page of any filing should include docket number P-1394-080.

All filings with the Commission must bear the appropriate heading: Comments on Waiver Request. Any individual or entity interested in submitting NOI comments must do so by October 1, 2019.

Dated: September 16, 2019.
Nathaniel J. Davis, Sr.,
Deputy Secretary.

[FR Doc. 2019-20389 Filed 9-19-19; 8:45 am]

BILLING CODE 6717-01-P